SMALL BUSINESS ADMINISTRATION

[Disaster Declaration #20570 and #20571; TEXAS Disaster Number TX-20024]

Administrative Rural Declaration Amendment of a Disaster for the State of Texas

AGENCY: Small Business Administration.

ACTION: Amendment 1.

SUMMARY: This is an amendment of the Administrative Rural declaration of disaster for the State of Texas dated 09/03/2024.

Incident: Hurricane Beryl.

Incident Period: 07/05/2024 through 07/09/2024.

DATES: Issued on 09/10/2024.

Physical Loan Application Deadline Date: 11/04/2024.

Economic Injury (EIDL) Loan Application Deadline Date: 06/03/2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of an Administrative declaration of a rural area for the State of Texas, dated 09/03/2024 is hereby amended to include the following areas as adversely affected by the disaster.

Primary Counties:

Harrison.

All other information in the original declaration remains unchanged.

(Catalog of Federal Domestic Assistance Number 59008)

Isabella Guzman,
Administrator.

[FR Doc. 2024-21213 Filed 9-17-24; 8:45 am]

BILLING CODE 8026-09-P